DEPARTMENT OF THE INTERIOR

Bureau of Indian Affairs

[156A2100DD/AAKC001030/A0A501010.999900 253G]

Omaha Tribe of Nebraska—Amendment to Alcoholic Beverage Control Ordinance

AGENCY: Bureau of Indian Affairs, Interior.

ACTION: Notice.

SUMMARY: This notice publishes the amendment to the Omaha Tribe of Nebraska's Alcoholic Beverage Control Ordinance, Title 8, Section 8-3-1 of the Omaha Tribal Code, to make the tribal sales tax on the purchase of alcoholic beverages consistent with the sales and use tax laws of the state. The amended Omaha Tribe of Nebraska's Alcoholic Beverage Control Ordinance, Title 8, Section 8-3-1 of the Omaha Tribal Code was last published in the Federal Register on February 28, 2006 (71 FR 10056).

DATES: Effective Date: This code shall become effective 30 days after July 21, 2015.

FOR FURTHER INFORMATION CONTACT: Mr. Todd Gravelle, Tribal Government Officer, Great Plains Regional Office, Bureau of Indian Affairs, 115 4th Avenue SE., Aberdeen, SD, 57401; Telephone: (605) 226-7376; Fax: (605) 226-7379, or Ms. Laurel Iron Cloud, Chief, Division of Tribal Government Services, Office of Indian Services, Bureau of Indian Affairs, 1849 C Street NW., MS-4513-MIB, Washington, DC 20240; Telephone (202) 513-7641.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Omaha Tribe of Nebraska adopted this amendment to Title 8, Section 8-3-1 of the Omaha Tribal Code by Resolution No. 14-10 on October 24, 2013.

This notice is published in accordance with the authority delegated by the Secretary of the Interior to the Assistant Secretary—Indian Affairs. I certify that the Tribal Council of the Omaha Tribe of Nebraska duly adopted this amendment to the Omaha Tribe of Nebraska's Alcoholic Beverage Control Ordinance, Title 8, Section 8-3-1 of the Omaha Tribal Code on October 24, 2013.

Dated: July 14, 2015.
Kevin K. Washburn
Assistant Secretary—Indian Affairs.

The amendment to the Omaha Tribe of Nebraska's Alcoholic Beverage Control Ordinance, Title 8, Section 8-3-1 of the Omaha Tribal Code shall read as follows:

SECTION 8-3-1. Sales Tax Levied.

There is hereby imposed a Sales Tax on the purchase of alcoholic beverages from any retail licensee licensed under the provisions of this title and said Sales Tax shall be consistent with that of the prevailing Base Sales and Use Tax Rate of the State in which the facility selling alcoholic beverages is located, as that Sales and Use Tax Rate may be amended from time to time. A local Sales Tax shall be imposed in an amount consistent with those sales and use taxes, if any, imposed by local governments in addition to the State Sales and Use tax. Such sales tax shall be deposited in a specific fund for use to prevent and control substance abuse on the Reservation.

[FR Doc. 2015-17906 Filed 7-20-15; 8:45 am]

BILLING CODE 4310-02-P